DEPARTMENT OF COMMERCE

International Trade Administration

[A-570-909]

Certain Steel Nails From the People's Republic of China: Final Results of Antidumping Duty Changed Circumstances Review

AGENCY: Import Administration, International Trade Administration, Department of Commerce.

DATES: Effective Date: August 1, 2009.

SUMMARY: On April 21, 2011, the Department of Commerce (“Department”) published a notice of initiation and the preliminary results of the changed circumstances review with intent to revoke, in part, the antidumping duty order ¹ on certain steel nails from the People's Republic of China (“PRC”) in the Federal Register.² The Department is now revoking the Order, in part, with regard to four specific types of steel nails.

¹ See Notice of Antidumping Duty Order: Certain Steel Nails From the People's Republic of China, 73 FR 44961 (August 1, 2008) (“Order”).

² See Certain Steel Nails from the People's Republic of China: Initiation and Preliminary Results of Antidumping Duty Changed Circumstances Review, 76 FR 22369 (April 21, 2011) (“Initiation and Preliminary Results”).

FOR FURTHER INFORMATION CONTACT: Alexis Polovina, Import Administration, International Trade Administration, U.S. Department of Commerce, 14th Street and Constitution Avenue, NW., Washington, DC 20230; telephone (202) 482-3927.

Background

On February 11, 2011, Mid Continent Nail Corporation (“Petitioner”) submitted a request for a changed circumstances review to revoke, in part, Order with respect to four specific types of steel nails.

Between February 22, 2011, and March 24, 2011, the Department received comments on behalf of Itochu Building Products (“IBP”), National Nail Corp. (“National Nail”), and United Sources Inc. (“United Sources”), supporting Petitioner's request for partial revocation of the Order, requesting the Department select the date of the preliminary determination of the original investigation as the effective date of the revocation, and requesting that the Department conduct an expedited review. On March 4, 2011, Department officials spoke with counsel representing Petitioner to clarify an inconsistency regarding the effective date identified in Petitioner's request.³ On March 8, 2011, counsel representing IBP met with Department officials to discuss the effective date of the proposed revocation, in part.⁴

³ See Memorandum to the File, From Alexis Polovina, Case Analyst, Regarding Changed Circumstances Review (“CCR”) of Certain Steel Nails from the People's Republic of China (“PRC”): Phone Call with Petitioner, dated March 4, 2011.

⁴ See Memorandum to the File, Alex Villanueva, Program Manager, Office 9, Import Administration, From Timothy Lord, Analyst, Office 9, Import Administration, Regarding Certain Steel Nails from the People's Republic of China: Meeting with Outside Party, dated March 9, 2011.

On April 21, 2011, the Department published a notice of Initiation and Preliminary Results of changed circumstances review with intent to revoke, in part, the Order with regard to four specific types of steel nails. We invited parties to submit comments for consideration in the Department's Final Results. None were received.

Scope of the Changed Circumstances Review

The merchandise covered by this changed circumstances review are four specific types of steel nails from the PRC that meet the following criteria:

(1) Non-collated (i.e., hand-driven or bulk), two-piece steel nails having plastic or steel washers (caps) already assembled to the nail, having a bright or galvanized finish, a ring, fluted or spiral shank, an actual length of 0.500″ to 8″, inclusive; and an actual shank diameter of 0.1015″ to 0.166″, inclusive; and an actual washer or cap diameter of 0.900″ to 1.10″, inclusive.

(2) Non-collated (i.e., hand-driven or bulk), steel nails having a bright or galvanized finish, a smooth, barbed or ringed shank, an actual length of 0.500″ to 4″, inclusive; an actual shank diameter of 0.1015″ to 0.166″, inclusive; and an actual head diameter of 0.3375″ to 0.500″, inclusive.

(3) Wire collated steel nails, in coils, having a galvanized finish, a smooth, barbed or ringed shank, an actual length of 0.500″ to 1.75″, inclusive; an actual shank diameter of 0.116″ to 0.166″, inclusive; and an actual head diameter of 0.3375″ to 0.500″, inclusive.

(4) Non-collated (i.e., hand-driven or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive.

In accordance with sections 751(b), 751(d), and 782(h) of the Tariff Act of 1930, as amended (“Act”) and 19 CFR 351.216, the Department determines that there is a reasonable basis to believe that changed circumstances exist sufficient to warrant partial revocation of the Order. Therefore, the Department is revoking the Order, in part, with regard to the products described above. Effective August 1, 2009, the amended scope of the Order will read as follows:

Scope of the Order

The merchandise covered by this proceeding includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this proceeding are currently classified under the Harmonized Tariff Schedule of the United States (“HTSUS”) subheadings 7317.00.55, 7317.00.65 and 7317.00.75.

Excluded from the scope are steel roofing nails of all lengths and diameter, whether collated or in bulk, and whether or not galvanized. Steel roofing nails are specifically enumerated and identified in ASTM Standard F 1667 (2005 revision) as Type I, Style 20 nails. Also excluded from the scope are the following steel nails: (1) Non-collated (i.e., hand-driven or bulk), two-piece steel nails having plastic or steel washers (caps) already assembled to the nail, having a bright or galvanized finish, a ring, fluted or spiral shank, an actual length of 0.500″ to 8″, inclusive; and an actual shank diameter of 0.1015″ to 0.166″, inclusive; and an actual washer or cap diameter of 0.900″ to 1.10″, inclusive; (2) Non-collated (i.e., hand-driven or bulk), steel nails having a bright or galvanized finish, a smooth, barbed or ringed shank, an actual length of 0.500″ to 4″, inclusive; an actual shank diameter of 0.1015″ to 0.166″, inclusive; and an actual head diameter of 0.3375″ to 0.500″, inclusive; (3) Wire collated steel nails, in coils, having a galvanized finish, a smooth, barbed or ringed shank, an actual length of 0.500″ to 1.75″, inclusive; an actual shank diameter of 0.116″ to 0.166″, inclusive; and an actual head diameter of 0.3375″ to 0.500″, inclusive; and (4) Non-collated (i.e., hand-driven or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive.

Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumb tacks, which are currently classified under HTSUS 7317.00.10.00.

Also excluded from the scope of this proceeding are certain brads and finish nails that are equal to or less than 0.0720 inches in shank diameter, round or rectangular in cross section, between 0.375 inches and 2.5 inches in length, and that are collated with adhesive or polyester film tape backed with a heat seal adhesive. Also excluded from the scope of this proceeding are fasteners having a case hardness greater than or equal to 50 HRC, a carbon content greater than or equal to 0.5 percent, a round head, a secondary reduced-diameter raised head section, a centered shank, and a smooth symmetrical point, suitable for use in gas-actuated hand tools. While the HTSUS subheadings are provided for convenience and customs purposes, the written description of the scope of this proceeding is dispositive.

Instructions to Customs

In accordance with 19 CFR 351.222(g)(4), the Department will instruct U.S. Customs and Border Protection (“CBP”) to liquidate, without regard to applicable antidumping duties, all unliquidated entries of nails that meet the above-noted specifications, and to refund any estimated antidumping duties collected on such merchandise entered, or withdrawn from warehouse, for consumption on or after August 1, 2009,⁵ the day after the most recent period for which an administrative review was completed. The Department will further instruct CBP to refund with interest any estimated duties collected with respect to unliquidated entries of nails from the PRC entered, or withdrawn from warehouse, for consumption on or after August 1, 2009, in accordance with section 778 of the Act.

⁵ The Department's recent practice has been to select the date after the most recent period for which a review was completed or issued assessment instructions as the effective date. See e.g., Notice of the Final Results of Changed Circumstances Review and Revocation of the Antidumping Order: Coumarin From the People's Republic of China, 69 FR 24122 (May 3, 2004) and Notice of Final Results of Changed Circumstances Review and Revocation of the Antidumping Duty Order: Bulk Aspirin From the People's Republic of China, 69 FR 77726 (Dec. 28, 2004).

The Department will issue appropriate assessment instructions directly to CBP within 15 days of publication of these final results of review.

Notification Regarding APOs

This notice also serves as a reminder to parties subject to administrative protective orders (“APOs”) of their responsibility concerning the disposition of proprietary information disclosed under APO in accordance with 19 CFR 351.306. Timely written notification of the return/destruction of APO materials or conversion to judicial protective order is hereby requested. Failure to comply with the regulations and terms of an APO is a sanctionable violation.

We are issuing and publishing this determination and notice in accordance with sections 751(b)(1) and 777(i)(1) of the Act, and 19 CFR 351.216, 351.221, and 351.222.

Dated: May 17, 2011.
Ronald K. Lorentzen,
Deputy Assistant Secretary for Import Administration.

[FR Doc. 2011-12800 Filed 5-23-11; 8:45 am]

BILLING CODE 3510-DS-P